NUCLEAR REGULATORY COMMISSION

[Docket No. 50-302; NRC-2025-0181]

Accelerated Decommissioning Partners Crystal River Unit 3, LLC; Crystal River Unit 3 Nuclear Generating Plant

AGENCY: Nuclear Regulatory Commission.

ACTION: Public meeting; request for comment.

SUMMARY: The U.S. Nuclear Regulatory Commission (NRC) is considering a request from Accelerated Decommissioning Partners Crystal River Unit 3, LLC (ADP) to approve the release of land areas, under the control of the NRC power reactor license for the Crystal River Unit 3 Nuclear Generating Plant (Crystal River Unit 3, CR3), Operating License No. DPR-72. The NRC is soliciting public comments on the requested action and invites stakeholders and interested persons to participate.

DATES: Submit comments by August 1, 2025. Comments received after this date will be considered if it is practical to do so, but the Commission is able to ensure consideration only for comments received before this date. A public meeting will be held on July 23, 2025. See Section III, “Request for Comment and Public Meeting,” of this document for more information.

ADDRESSES: You may submit comments by any of the following methods; however, the NRC encourages electronic comment submission through the Federal rulemaking website:

• Federal rulemaking website: Go to https://www.regulations.gov and search for: Docket ID NRC-2025-0181. Address questions about Docket IDs in Regulations.gov to Bridget Curran; telephone: 301-415-1003; email: Bridget.Curran@nrc.gov. For technical questions, contact the individual listed in the For Further Information Contact section of this document.

• Mail comments to: Office of Administration, Mail Stop: TWFN-7A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Chris Allen, Office of Nuclear Material Safety and Safeguards, U.S. Nuclear Regulatory Commission, Washington, DC 20555-0001; telephone: 301-415-6877; email: William.Allen@nrc.gov.

SUPPLEMENTARY INFORMATION:

I. Obtaining Information and Submitting Comments

A. Obtaining Information

Please refer to Docket ID NRC-2025-0181 when contacting the NRC about the availability of information for this action. You may obtain publicly available information related to this action by any of the following methods:

• Federal Rulemaking Website: Go to https://www.regulations.gov and search for Docket ID NRC-2025-0181.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADP's request is available in ADAMS under Package Accession No. ML25041A177.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2025-0181 in your comment submission. The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

The NRC received a request for approval of a partial site release from ADP (the licensee), by letter dated February 10, 2025 (ADAMS Package Accession No. ML25041A177). ADP requests NRC approval to remove 618 acres of property, classified as either radiologically non-impacted or Multi-Agency Radiation Survey and Site Investigation Manual Class 3, associated with the Crystal River Unit 3 Operating License No. DPR-72 in accordance with section 50.83 of title 10 of the Code of Federal Regulations (10 CFR), “Release of part of a power reactor facility or site for unrestricted use.” In addition, the application requested the NRC to remove another 3,854 acres of property, classified as radiologically non-impacted, from the Crystal River Unit 3 Operating License as approved on January 2, 2020 (ADAMS Accession No. ML19339G509).

The CR3 license (NRC License No. DPR-72, Docket No. 50-302) is for a power reactor under 10 CFR part 50, “Domestic Licensing of Production and Utilization Facilities.” The facility was certified as permanently shut down, per NRC regulations in 10 CFR 50.82(a), by letter dated February 20, 2013 (ADAMS Accession No. ML13056A005). ADP is actively decommissioning this site pending the termination of the power reactor license.

As described in 10 CFR 50.83(e), the NRC will determine whether the licensee has adequately evaluated the effect of releasing the properties per the requirements of 10 CFR 50.83(a)(1), determine whether the licensee's classification of any released areas as “non-impacted” is adequately justified, and if the NRC determines that the licensee's submittal is adequate, the NRC will inform the licensee in writing that the release is approved.

III. Request for Comment and Public Meeting

The NRC will conduct a public meeting to answer questions and gather comments regarding ADP's request for approval of the partial site release. The meeting will be held on Wednesday, July 23, 2025, from 5:30 p.m. until 7 p.m. ET, at the Citrus County Chamber of Commerce, located at 915 N Suncoast Blvd., Crystal River, FL 34429.

This is a Category 3 public meeting where stakeholders are invited to fully engage NRC staff to provide a range of views, information, concerns and suggestions with regard to ADP's request for approval of the partial site release. After the licensee and the NRC staff presentation portion of the meeting, the public is allowed to speak and ask questions. Comments can be provided orally or in writing to the NRC staff present at the meeting. The NRC will consider and, if appropriate, respond to these written and verbal comments, but such comments will not otherwise constitute part of the decisional record.

Stakeholders interested in attending this meeting should monitor the NRC's Public Meeting Schedule website at: https://www.nrc.gov/public-involve/public-meetings/index.cfm for additional information, meeting agenda and access information for the public meeting.

Dated: June 27, 2025.
For the Nuclear Regulatory Commission.
Shaun Anderson,
Chief, Reactor Decommissioning Branch, Division of Decommissioning, Uranium Recovery and Waste Programs, Office of Nuclear Material Safety and Safeguards.

[FR Doc. 2025-12321 Filed 7-1-25; 8:45 am]

BILLING CODE 7590-01-P